DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than July 9, 2001.

Interested persons are invited to submit written comments regarding the subject matter of the investigations to the Director, Division of Trade Adjustment Assistance, at the address shown below, not later than July 9, 2001.

The petitions filed in this case are available for inspection at the Office of the Director, Division of Trade Adjustment Assistance, Employment and Training Administration, U.S. Department of Labor, Room C-5311, 200 Constitution Avenue, N.W., Washington, D.C. 20210.

Signed at Washington, D.C. this 21st day of May, 2001.
Edward A. Tomchick,
Director, Division of Trade Adjustment Assistance.

Appendix
[Petitions instituted on 05/21/2001]
TA-W | Subject firm (petitioners) | Location | Date of petition | Product(s)
39,273 | USS—USX Corporation (USWA) | Fairless Hills, PA | 05/04/2001 | Cold Rolled Sheet
39,274 | Berne Apparel (Wkrs) | Portland, IN | 05/04/2001 | Cut Materials
39,275 | Drexel Heritage Furnish (Co.) | Morganton, NC | 05/07/2001 | Residential Furniture
39,276 | Cutting Edge Texstyles (UNITE) | Boston, MA | 05/08/2001 | Trim Bias Binding
39,277 | UFE, Inc (Wkrs) | River Falls, WI | 03/28/2001 | Custom Injection Molded Plastic Parts
39,278 | Honeywell International (UAW) | Nevada, MO | 04/25/2001 | Heavy Duty Air and Fuel Filters
39,279 | Motorola, Inc. (Wkrs) | Libertyville, IL | 04/23/2001 | Wireless Phones
39,280 | Lear Corporation (UNITE) | Lewistown, PA | 05/05/2001 | Automobile Carpets
39,281 | Honeywell Advanced (USWA) | Minnetonka, MN | 04/27/2001 | Printed Circuit Boards
39,282 | Standard Corporation (Co.) | Leland, NC | 04/30/2001 | Distribution and Warehouse
39,283 | Ingram Micro (Wkrs) | Jonestown, PA | 04/25/2001 | Computers
39,284 | London Fog Industries (Wkrs) | New York, NY | 04/02/2001 | Ladies' & Mens' Outerwear
39,285 | Nemanco, Inc. (Wkrs) | Philadelphia, MS | 05/03/2001 | Fabric
39,286 | M. Fine and Sons (UNITE) | Middlesboro, KY | 05/03/2001 | Denim Jeans
39,287 | Rubbermaid Cleaning (Co.) | Greenville, NC | 04/10/2001 | Brooms, Dust Mops, Dust Pans
39,288 | Heartland Wheat Growers (Wkrs) | Russell, KS | 05/04/2001 | Wheat Gluten
39,289 | Shieldalloy Metallurgical (UAW) | Newfield, NJ | 04/23/2001 | Aluminum Alloys
39,290 | Sonoco Industrial (Wkrs) | Shepherd, MI | 05/04/2001 | Spiral Tubes for Tape
39,291 | White Rodgers (Co.) | St. Louis, MO | 04/11/2001 | Automatic Temp. Controls, Thermostats
39,292 | Gulf States Paper (Wkrs) | Maplesville, AL | 05/03/2001 | Paperboard Cartons
39,293 | Innovo Group (Wkrs) | Knoxville, TN | 05/02/2001 | Aprons, Kiddy Aprons, Tote Bags
39,294 | Newmont Mining No. Amer. (Co.) | Carlin, NV | 05/01/2001 | Mining
39,295 | Robinson Manufacturing (Wkrs) | Pikeville, TN | 05/01/2001 | Men's and Boys' Boxer Shorts
39,296 | P.E. Technologies (USWA) | Cleveland, OH | 05/07/2001 | Steel Rolling Mill Machinery Equip.
39,297 | Standard Boiler Works (Wkrs) | Lebanon, PA | 05/08/2001 | Steel Bases for Pumps and Motors
39,298 | Accuride Corporation (Wkrs) | Columbia, TN | 05/08/2001 | Steel Wheels
39,299 | Mowad Apparel (Co.) | El Paso, TX | 05/03/2001 | Apparel
39,300 | Nokia Mobile Phones (Wkrs) | Fort Worth, TX | 05/07/2001 | Mobile Phones
39,301 | APV America's (Wkrs) | Lake Mills, WI | 04/30/2001 | Milk Homogenizers
39,302 | Honeywell Aircraft Land (Co.) | South Bend, IN | 03/28/2001 | Aircraft Wheels and Brakes
39,303 | Jackets USA (Wkrs) | Magazine, AR | 05/03/2001 | Jackets
39,304 | Berg Lumber Co. (Wkrs) | Lewistown, MT | 05/07/2001 | Lumber
39,305 | Stearns, Inc. (Wkrs) | Carlton, MN | 04/25/2001 | Boatwear
39,306 | Temco Acquisition (Wkrs) | Hibbing, MN | 05/07/2001 | Steel Fabrication and Machining
39,307 | Creative Embroidery (Co.) | Bloomfield, NJ | 05/07/2001 | Infant's Wear
39,308 | Blue Cast Denim (Wkrs) | El Paso, TX | 05/08/2001 | Jean Pants, Jean Shorts, Jean Skirts
39,309 | Supreme Laundry (Wkrs) | El Paso, TX | 05/08/2001 | Jean Pants
39,310 | Gen Systems (UNITE) | New Bremen, OH | 05/10/2001 | Tenison Leveling Lines
39,311 | T.K. Timber (Wkrs) | La Pine, OR | 04/19/2001 | Pine Lumber
39,312 | Formtech Enterprises (Wkrs) | Orwigsburg, PA | 05/11/2001 | Extruded & Fabricated Plastic Parts
39,313 | Lynn Electronics (Wkrs) | Feasterville, PA | 05/03/2001 | Patch and Line Cords
39,314 | Southern Glove (Co.) | Mountain City, TN | 04/20/2001 | Cotton Work Gloves

[FR Doc. 01-16071 Filed 6-26-01; 8:45 am]

BILLING CODE 4510-30-M